ENVIRONMENTAL PROTECTION AGENCY

[FRL-7995-6]

A&H Sales Site; Notice of Proposed Settlement

AGENCY: Environmental Protection Agency.

ACTION: Notice of Settlement for Recovery of Past Response Costs.

SUMMARY: Under section 122(h)(1) of the Comprehensive Environmental Response Compensation and Liability Act (CERCLA), the Environmental Protection Agency (EPA) has offered a cost recovery Settlement at the A&H Sales Superfund Site located in Tampa, Hillsborough County, Florida. EPA will consider comments on the settlement until December 12, 2005. EPA may withdraw from or modify the proposed settlement should such comments disclose facts or considerations which indicate the proposed settlement is inappropriate, improper, or inadequate. Copies of the proposed settlement is available from: Ms. Paula V. Batchelor, U.S. Environmental Protection Agency, Region 4, Superfund Enforcement and Information Management Branch, Waste Management Division, 61 Forsyth Street, SW., Atlanta, Georgia 30303. (404) 562-8887. Batchelor.paula@epa.gov.

Written or e-mail comments may be submitted to Paula V. Batchelor at the above address within 30 days of the date of publication.

Dated: October 24, 2005.
Rosalind H. Brown,
Chief, Superfund Enforcement and Information Management Branch, Waste Management Division.

[FR Doc. 05-22375 Filed 11-9-05; 8:45 am]

BILLING CODE 6560-50-P